DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

Medical Device for Intraocular Injection of Therapeutics and Fluid Sampling

Description of Technology: The National Institutes of Health seeks research collaboration and commercialization partners for a medical device for administering therapeutics into the eye to treat a variety of ocular diseases including diabetic retinopathy, retinal vein occlusion, and macular degeneration. The device is a dual function needle that can both inject and sample ocular fluid at the same injection site. The needle includes a hub portion in communication with a needle portion through a lumen that may be used as a conduit to inject a therapeutic into an injection site. A sample chamber, with an optional absorbent material, is disposed in the lumen capable of absorbing intraocular fluid via a passive filling action into the sample chamber.

Potential Commercial Applications:

• Ocular therapeutics

• Macular degeneration

• Diabetic retinopathy

• Retinal vein occlusion

Competitive Advantages:

• Small sample volumes

• Disposable

• Personalized medicine

Development Stage:

• Prototype

• Early-stage

Inventors: Henry E. Wiley (NEI), Terrence M. Philips (NIBIB), Fredrick L. Ferris (NEI), Heather Kalish (NIBIB).

Intellectual Property: HHS Reference No. E-233-2010/0—U.S. Provisional Patent Application No. 61/533,908 filed September 13, 2011.

Licensing Contact: Michael Shmilovich, Esq.; (301) 435-5019; mish@codon.nih.gov.

Collaborative Research Opportunity: The National Eye Institute is seeking statements of capability or interest from parties interested in collaborative research to further develop, evaluate or commercialize intraocular therapeutic delivery. For collaboration opportunities, please contact Alan E. Hubbs, Ph.D. at (301) 594-4263 or hubbsa@mail.nih.gov.

Bacteria/Biofilm Resistant Implantable Medical Device

Description of Technology: Available for licensing and commercial development is a medical device resistant to a biological barrier such as a bacterial biofilm, fibrin sheath, and/or clot formation. An electric current is introduced through an electrically conductive surface of the device (e.g., a catheter) on which a biofilm, fibrin sheath, or clot may form to inhibit formation. The electrically conductive surface can extend along an entire surface of the device (for example extending entirely from the proximal to distal end of a catheter), or a portion thereof such as at the tip.

Potential Commercial Applications:

• Biofilm resistant medical devices

• Antimicrobial methods

• Antimicrobial protection of implanted medical device

• Vascular access devices

Competitive Advantages: Non-degradable antimicrobial methods.

Development Stage:

• Prototype

• Early-stage

Inventors: Bradford Wood and Ziv Neeman (NIHCC).

Intellectual Property: HHS Reference No. E-078-2005—U.S. Provisional Patent Application 61/501,065 filed June 24, 2011.

Licensing Contact: Michael Shmilovich, Esq.; (301) 435-5019; mish@codon.nih.gov.

Dated: November 16, 2011.
Richard U. Rodriguez,
Director, Division of Technology Development and Transfer, Office of Technology Transfer, National Institutes of Health.

[FR Doc. 2011-30109 Filed 11-21-11; 8:45 am]

BILLING CODE 4140-01-P